OFFICE OF SCIENCE AND TECHNOLOGY POLICY

Notice of Release of Charting the Course for Ocean Science in the United States: Research Priorities for the Next Decade

ACTION: Notice of release of Charting the Course for Ocean Science in the United States: Research Priorities for the Next Decade and request for public comment.

SUMMARY: This notice announces the release of the Charting the Course for Ocean Science in the United States: Research Priorities for the Next Decade and Request for Public Comment by the National Science and Technology Council's (NSTC) Joint Subcommittee on Ocean Science and Technology (JSOST). This draft document describes the ocean research priorities for the United States for the next decade.

Dates and Addresses: Charting the Course for Ocean Science in the United States: Research Priorities for the Next Decade, a draft document that describes the ocean research priorities for the United States for the next decade is now available for public review (http://ocean.ceq.gov/about/sup_jsost_public_comment.html). Please note that all comments submitted will be available for public viewing. The NSTC JSOST must receive comments on this draft document no later than the close of business on October 20, 2006.

Address for comments: Only electronic (e-mail) comments will be accepted. Individuals who wish to provide comments should refer to the guidelines for comment submission available at http://ocean.ceq.gov/about/sup_jsost_public_comment.html. Comments should be sent to: public-comment@jsost.org.

FOR FURTHER INFORMATION CONTACT: For information regarding this notice, please contact Shelby Walker, Joint Subcommittee on Ocean Science and Technology, CCSP/USGCRP Office, 1717 Pennsylvania Ave., Suite 250, Washington, DC 20006. Telephone: (202) 419-3464. E-mail: swalker@usgcrp.gov.

SUPPLEMENTARY INFORMATION: As part of the reformulation of ocean policy, the U.S. Ocean Action Plan developed a governance structure that coordinates the tasks and goals of all of the Federal agencies involved in ocean science and management. This multi-tiered governance structure has the goal of advancing ocean science and use in an integrated and productive manner. To that end, the JSOST, as directed by the OAP and governed by the Committee on Ocean Policy (COP), the NSTC, and the Interagency Committee on Ocean Science and Resource Management Integration (ICOSRMI), is developing an Ocean Research Priorities Plan and Implementation Strategy. The goal of the Ocean Research Priorities Plan and Implementation Strategy is to formulate the priorities for ocean science and technology initiatives across the wide scope of societal interests and to define the fundamental principles for guiding actions and programs in support of the research priorities. This draft document, Charting the Course for Ocean Science in the United States: Research Priorities for the Next Decade, describes the national ocean research priorities and was formulated using the input from a public comment period on the ocean research priorities planning materials, a public workshop held April 18-20, 2006, in Denver, CO, and a series of internal reviews. The NSTC JSOST now seeks input and comment from all relevant communities on the national ocean research priorities. Additional information on the development of the national ocean research priorities and the public comment period is available at: http://ocean.ceq.gov/about/jsost.html.

M. David Hodge,
Operations Manager.

[FR Doc. 06-7600 Filed 9-11-06; 8:45 am]

BILLING CODE 3170-W6-M